DEPARTMENT OF THE INTERIOR

Fish and Wildlife Service

Availability of Comprehensive Conservation Plan and Summary for Flint Hills National Wildlife Refuge, Hartford, KS

AGENCY: Fish and Wildlife Service, Interior.

ACTION: Notice of Availability.

SUMMARY: Pursuant to the Refuge Improvement Act of 1997, the U.S. Fish and Wildlife Service has published the Flint Hills National Wildlife Refuge Comprehensive Conservation Plan and Summary. This Plan describes how the FWS intends to manage the Flint Hills NWR for the next 10-15 years.

ADDRESSES: A copy of the Plan or Summary may be obtained by writing to U.S. Fish and Wildlife Service, Flint Hills NWR, P.O. Box 128, Hartford, KS 66854 or download from http://www.r6.fws.gov/larp/.

FOR FURTHER INFORMATION CONTACT: Jerre Gamble, U.S. Fish and Wildlife Service, Flint Hills NWR, P.O. Box 128, Hartford, KS 66854; 316/392-5553.

SUPPLEMENTARY INFORMATION: Flint Hills National Wildlife Refuge straddles the Neosho River in eastern Kansas. The area is dominated by complex resource management issues revolving around the flood control function of John Redmond Reservoir. Activities associated with agriculture, flood control, and public recreation have placed increasing demands on the landscape and identified the need for more responsible utilization of land and water resources that support the remaining native ecosystem components.

Flint Hills National Wildlife Refuge will continue to conserve habitat for the diverse array of native plants and animals that rely upon the resources of the Refuge for survival. This Plan describes the conservation activities that the Fish and Wildlife Service intends to carry our on Flint Hills NWR.

Dated: December 18, 2000.
Ralph O. Morgenweck,
Regional Director, Denver, Colorado.

[FR Doc. 00-32759 Filed 12-21-00; 8:45 am]

BILLING CODE 4310-55-M